DEPARTMENT OF ENERGY

Federal Energy Regulatory Commission

[Docket No. RP02-99-000]

Shell Offshore Inc., Complainant, v. Transcontinental Gas Pipeline Corporation, Williams Gas Processing—Gulf Coast Company, L.P., and Williams Field Services Company, Respondents; Notice of Complaint

December 4, 2001.

Take notice that on November 30, 2001, pursuant to rule 206 of the rules of practice and procedure of the Federal Energy Regulatory Commission (Commission), 18 CFR 385.206, Shell Offshore Inc. (Shell) tendered for filing a Complaint Requesting Fast Track Processing and Request for Interim Relief against Transcontinental Gas Pipeline Corporation (Transco), Williams Gas Processing—Gulf Coast Company, L.P.(WGP), and Williams Field Services Company (WFS). Shell alleges that Transco, in concert with its affiliates WGP and WFS, are acting in an anti-competitive manner in connection with the transportation of gas in interstate commerce. More specifically, Shell alleges that Transco and its affiliates are implementing the abandonment of the North Padre facilities in a manner that frustrates the Commission's expectation that the abandonment would foster competition within the gathering industry and in a manner contrary to the Commission's policies and effective regulation of the interstate transportation of natural gas.

Shell has requested the Commission to: (1) Reassert jurisdiction over Transco's integrated system to protect shippers such as Shell from the anti-competitive behavior of Transco and its affiliates; (2) protect Shell from the immediate danger of losing its essential service on the North Padre facilities and the jurisdictional IT-feeder facilities by providing immediate interim relief requiring Transco and its affiliates to continue service without interruption at the Pre-December 1, 2001 rates, and under the same terms and conditions of service; and (3) provide permanent relief to Shell against the loss of essential service on the North Padre facilities and the jurisdictional IT-feeder facilities by requiring Transco and its affiliates to continue service without interruption at just and reasonable rates and terms and conditions of service.

Any person desiring to be heard or to protest this filing should file a motion to intervene or protest with the Federal Energy Regulatory Commission, 888 First Street, NE., Washington, DC 20426, in accordance with rules 211 and 214 of the Commission's rules of practice and procedure (18 CFR 385.211 and 385.214). All such motions or protests must be filed on or before December 14, 2001. Protests will be considered by the Commission in determining the appropriate action to be taken, but will not serve to make protestants parties to the proceeding. Any person wishing to become a party must file a motion to intervene. Answers to the complaint shall also be due on or before December 14, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30410 Filed 12-7-01; 8:45 am]

BILLING CODE 6717-01-P